DEPARTMENT OF ENERGY

Western Area Power Administration

Post-2014 Resource Pool-Loveland Area Projects, Allocation Procedures and Call for Applications

AGENCY: Western Area Power Administration, DOE.

ACTION: Notice of allocation procedures and call for applications.

SUMMARY: Western Area Power Administration (Western), a Federal power marketing agency of the Department of Energy (DOE), is publishing this notice of allocation procedures and call for applications from preference entities interested in an allocation of Federal electric power. Subpart C of the Energy Planning and Management Program (Program), which was developed in part to implement Section 114 of the Energy Policy Act of 1992, provides for establishing project-specific resource pools and allocating power from these pools to eligible new preference customers and for other appropriate purposes as determined by Western. These allocation procedures and call for applications, in conjunction with the Loveland Area Projects (LAP) Final Post-1989 Marketing Plan (Post-1989 Marketing Plan), establish the framework for allocating power from the LAP resource pool. This resource pool is comprised of up to one percent of the long-term marketable resource of the LAP.

DATES: An entity interested in applying for an allocation of electric power from Western must submit a written application (see Applicant Profile Data (APD) in Section V.A.) to Western's Rocky Mountain Customer Service Region at the address below. Western must receive the application by 4 p.m., MST, on Friday, March 4, 2011. Western reserves the right to not consider an application that is received after the prescribed date and time.

A single public information forum (not to exceed 3 hours) on the allocation procedures, call for applications, and APD will be held on Wednesday, February 2, 2011, at 1 p.m. MST; at the address below.

ADDRESSES: Submit applications for an allocation of electric power to Bradley S. Warren, Regional Manager, Rocky Mountain Customer Service Region, Western Area Power Administration. Applications may be delivered by certified mail, commercial mail, e-mail, or fax. Mail applications to 5555 East Crossroads Boulevard, Loveland, CO 80538-8986. Submit e-mail applications to POST2014LAP@wapa.gov with an electronic signature. If an electronic signature is not available, fax the signature page to 970-461-7204, or mail it to the address above. Fax applications to 970-461-7204.

Information about the Post-2014 Resource Pool Allocation Procedures, including letters and other supporting documents made or kept by Western pertaining to these allocation procedures and call for applications, is available for public inspection and copying at the Rocky Mountain Customer Service Region office, Western Area Power Administration, 5555 East Crossroads Boulevard, Loveland, CO 80538-8986.

The single public information forum on the allocation procedures, call for applications and APD will be held on Wednesday, February 2, 2011, at 1 p.m., MST, at the Embassy Suites Hotel, Spa and Conference Center, 4705 Clydesdale Parkway, Loveland, CO 80538; telephone number 970-593-6200.

FOR FURTHER INFORMATION CONTACT: Linda Swails, Public Utilities Specialist, 970-461-7339, or Melanie Reed, Contracts and Energy Services Manager, 970-461-7229. Written requests for information should be sent to Rocky Mountain Customer Service Region, Western Area Power Administration, Attn: J6200, P.O. Box 3700, Loveland, CO 80539-3003.

SUPPLEMENTARY INFORMATION: Western published the final rule establishing the Program on October 20, 1995 (60 FR 54151). The rule became effective on November 20, 1995 and is codified at 10 CFR part 905. Subpart C of the Program, Power Marketing Initiative, provides for allocations from project-specific power resource pools to eligible new preference customers and/or for other appropriate purposes as determined by Western. Up to one percent of existing customers' allocations will be placed in a resource pool from which power allocations to new customers will be made. Allocations to new preference customers shall be made in accordance with the Post-1989 Marketing Plan and the Program. This notice sets forth the Post-2014 Resource Pool Allocation Procedures for making these allocations. These procedures address: (1) The amount of pool resources; (2) general eligibility criteria; (3) general allocation criteria, i.e., how Western plans to allocate pool resources to new customers as provided for in the Program; (4) general contract principles under which Western will sell the allocated power, and; (5) APD, i.e., application information required from each applicant. As restated below, these procedures are consistent with the key principles and general eligibility and allocation criteria established in the LAP Post-2004 and Post-2009 Resource Pool Procedures.

I. Amount of Pool Resources

Western will allocate up to one percent of the LAP long-term firm hydroelectric resource available as of October 1, 2014, as firm power. “Firm power” means firm capacity and associated energy allocated by Western that is subject to the terms and conditions specified in Western's long-term firm electric service contract. The amount of resource that will become available on October 1, 2014, is approximately 6.9 MW for the summer season and 6.1 MW for the winter season.

II. General Eligibility Criteria

Western will apply the following general eligibility criteria to applicants seeking an allocation of firm power under the Post-2014 Resource Pool Allocation Procedures:

A. Qualified applicants must be preference entities as defined by Section 9c of the Reclamation Project Act of 1939, 43 U.S.C. 485h(c), as amended and supplemented.

B. Qualified applicants must be located within the currently established LAP marketing area. (See Section III.C. below for a description of the LAP marketing area.)

C. Qualified applicants must not have a current firm electric service contract nor be a member of a parent entity that has a firm electric service contract with Western.

D. Qualified utility and non-utility applicants must be able to use the firm power directly or be able to sell it directly to retail customers.

E. Qualified utility applicants that are municipalities, cooperatives, public utility districts, or public power districts must attain utility status by October 1, 2011. “Utility status” means that the entity has responsibility to meet load growth, has a distribution system, and is ready, willing, and able to purchase Federal power from Western on a wholesale basis.

F. A qualified Native American applicant must be an Indian Tribe as defined in the Indian Self Determination Act of 1975, 25 U.S.C. 450b, as amended and supplemented.

III. General Allocation Criteria

Western will apply the following general allocation criteria to applicants seeking an allocation of firm power under the Post-2014 Resource Pool Allocation Procedures:

A. Allocations of firm power will be made in amounts solely determined by Western in exercising its discretion as permitted under Reclamation Law.

B. An allottee will have the right to purchase power only after executing a firm electric service contract with Western, and satisfying all conditions for firm electric service delivery in the contract.

C. Firm power allocated under these procedures will be available only to new qualified applicants in LAP's existing marketing area. This marketing area includes parts of Colorado, Kansas, Nebraska, and Wyoming. LAP's marketing area is specifically defined as the portion of Colorado east of the Continental Divide, Mountain Parks Rural Electric Association's service territory in Colorado west of the Continental Divide, the portion of Kansas located in the Missouri River Basin, the portion of Kansas west of the eastern borders of the counties intersected by the 100th Meridian, the portion of Nebraska west of the 101st Meridian, and Wyoming east of the Continental Divide.

D. An allocation made to an Indian Tribe will be based on actual load, or estimated load as developed by the Tribe. Western will evaluate and may adjust inconsistent estimates during the allocation process. Western is willing to assist Tribes in developing load estimating methods.

E. Allocations made to eligible utility and non-utility applicants will be based on 2009-2010 winter season and 2010 summer season loads. Western will apply the Post-1989 Marketing Plan, Program criteria, and the Post-2004 and Post-2009 Resource Pool criteria to these loads, except as restated herein.

F. Firm capacity and energy will be based upon each applicant's seasonal system load factor.

G. Any long-term firm electric service contract offered by Western to an applicant is expected to be executed by the applicant no later than September 30, 2012, unless otherwise agreed to in writing by Western.

H. The resource pool will be dissolved subsequent to the closing date for executing firm electric service contracts. Firm power not under contract will be used as Western determines.

I. The minimum allocation shall be 100 kilowatts (kW).

J. The maximum allocation shall be 5,000 kW. Qualified Native American applicants are not subject to this limitation.

K. Contract rates of delivery shall be subject to adjustment in the future as provided in the firm electric service contract.

L. If Western encounters unanticipated obstacles to delivering firm electric service to an Indian Tribe, it retains the right to provide the economic benefit of the resource directly to the Tribe.

IV. General Contract Principles

Western will apply the following general contract principles to all allottees receiving an allocation of firm power under the Post-2014 Resource Pool Allocation Procedures:

A. Western, at its discretion and sole determination, reserves the right to adjust the contract rate of delivery on 5 years' advance written notice in response to changes in hydrology and river operations. Any such adjustments shall take place only after a public process.

B. Each allottee is ultimately responsible for making its own third-party delivery arrangements. Western may assist allottees in making third-party transmission arrangements for delivery of firm power.

C. Contracts entered into under the Post-2014 Resource Pool Allocation Procedures shall provide for Western to furnish firm electric service effective October 1, 2014, through September 30, 2024.

D. Contracts entered into under the Post-2014 Resource Pool Allocation Procedures shall incorporate Western's standard provisions for power sales contracts, to include integrated resource planning and general power contract provisions.

V. Applications for Firm Power

This notice formally requests applications from qualified entities that desire to purchase firm power from LAP. Applications for an allocation of firm power under these procedures must be submitted in writing to the Regional Manager, Rocky Mountain Customer Service Region. APD must be received at Western's Rocky Mountain Customer Service Region in accordance with the requirements listed herein. Western reserves the right to not consider applications submitted before publication of this notice or after the deadline specified in the DATES section above. Applications are available upon request and at http://www.wapa.gov/rm/PMcontractRM/Post2014.html.

A. Applicant Profile Data (APD)

APD content and format are outlined below. To be considered, each applicant must submit its APD to Western's Rocky Mountain Customer Service Region no later than 4 p.m., MST, on March 4, 2011. See the DATES and ADDRESSES sections above for specific information on submission and deadline requirements. Applicants are encouraged to use the application form provided at the above referenced Web site, but may submit the requested information in another format using the sequence listed below. The applicant must provide all requested information or the most reasonable available estimate, and note any requested information that does not apply. Western is not responsible for errors in data, missing data, or missing pages. All APD should be answered as if prepared by the entity seeking an allocation of Federal power. The APD content and format follow.

APPLICANT PROFILE DATA

1. Applicant Information. Please provide the following:

a. Applicant's (entity/organization requesting an allocation) name and address:

Applicant's Name:
Address:
City:
State:
Zip:

b. Person(s) representing the applicant:

Contact Person (Name & Title):
Address:
City:
State:
Zip:
Telephone:
Fax:
E-mail Address:

c. Type of entity/organization:

☐ Federal Agency

☐ Irrigation District

☐ Municipal, Rural, or Industrial User

☐ Municipality

☐ Native American Tribe

☐ Public Utility District

☐ Rural Electric Cooperative

☐ State Agency

☐ Other, please specify:

d. Parent entity/organization of the applicant, if any:

e. Name of the applicant's member organizations, if any:

f. Applicable law under which the applicant was established:

g. Applicant's geographic service area (if available, please submit a map of the service area and indicate the date prepared):

h. Describe whether the applicant owns and operates its own electric utility system:

i. Provide the date the applicant attained utility status, if applicable. 10 CFR part 905.35 defines “utility status” to mean “that the entity has responsibility to meet load growth, has a distribution system, and is ready, willing, and able to purchase power from Western on a wholesale basis for resale to retail consumers.”

j. Describe the entity/organization that will interact with Western on contract and billing matters:

2. Service Requested:

a. Provide the amount of energy the applicant is requesting Western to serve (annual kWh):

3. Applicant's Loads:

a. Utility and non-utility applicants:

(i) If applicable, provide the number and type of customers served (e.g., residential, commercial, industrial, military base, agricultural):

Customer Type and Number
| Residential | Commercial | Industrial | Military | Ag. | Other
Number of customers
If not applicable, explain why: |

(ii) Provide the actual monthly maximum demand (kilowatts) and energy use (kilowatt-hours) for each calendar month experienced in 2009-2010 winter season (October-March), and 2010 summer season (April-September):

2009-2010
| Oct 2009 | Nov 2009 | Dec 2009 | January 2010 | February 2010 | March 2010
Demand (kilowatts)
Energy (kilowatt-hours)

| April 2010 | May 2010 | June 2010 | July 2010 | August 2010 | September 2010
Demand (kilowatts)
Energy (kilowatt-hours)

(iii) Provide the average annual load factor for the Federal government Fiscal Year 2010 (October 2009 through September 2010):

Fiscal Year 2010 Average Annual Load Factor:

(iv) Provide the average monthly load factors for 2009-2010 winter season (October-March), and 2010 summer season (April-September):

2009-2010 Average Monthly Load Factor
| Oct 2009 | Nov 2009 | Dec 2009 | January 2010 | February 2010 | March 2010
Load Factor

| April 2010 | May 2010 | June 2010 | July 2010 | August 2010 | September 2010
Load Factor

(v) Identify any factors or conditions anticipated in the next 5 years which may significantly change peak demands, load duration, or profile curves:

b. Native American Tribe applicants only:

(i) Indicate the utility or utilities currently serving your loads:

(ii) If applicable, provide the number and type of customers served (e.g., residential, commercial, industrial, military base, agricultural):

Customer Type and Number
| Residential | Commercial | Industrial | Military | Ag. | Other
Number of customers
If not applicable, explain why: |

(iii) Provide the actual monthly maximum demand (kilowatts) and energy use (kilowatt-hours) experienced in 2009-2010 winter season (October-March), and 2010 summer season (April-September). If the actual demand and energy data are not available or are difficult to obtain, provide the estimated monthly demand and energy data:

2009-2010
| Oct 2009 | Nov 2009 | Dec 2009 | January 2010 | February 2010 | March 2010
Demand (kilowatts)
Energy (kilowatt-hours)

| April 2010 | May 2010 | June 2010 | July 2010 | August 2010 | September 2010
Demand (kilowatts)
Energy (kilowatt-hours)

(iv) If the demand and energy data in 3.b.(iii) above is estimated, provide a description of the method and basis for the estimation:

(v) Provide the actual average annual load factor for the Federal government Fiscal Year 2010 (October 2009 through September 2010). If the actual load factor is not available, provide the estimated load factor:

Fiscal Year 2010 Average Annual Load Factor:

(vi) Provide the actual monthly load factors for 2009-2010 winter season (October-March), and 2010 summer season (April-September). If the actual load factors are not available, provide the estimated load factors:

2009-2010 Average Monthly Load Factor
| Oct 2009 | Nov 2009 | Dec 2009 | January 2010 | February 2010 | March 2010
Load Factor

| April 2010 | May 2010 | June 2010 | July 2010 | August 2010 | September 2010
Load Factor

(vii) If the load factor data in 3.b.(v) and (vi) is estimated, provide a description of the method and basis for the estimation:

(viii) Identify any factors or conditions anticipated in the next 5 years which may significantly change peak demands, load duration, or profile curves:

4. Applicant's Resources. Please provide the following information:

a. A list of current power supplies if applicable, including the applicant's own generation, as well as purchases from others. For each supply, provide the resource name, capacity supplied, and the resource's location:

b. For each power supplier, provide a description and status of the power supply contract (including the termination date):

c. For each power supplier, provide the type of power:

☐ Power supply is on a firm basis.

☐ Power supply is on a non-firm basis. Please explain:

5. Transmission:

a. Points of delivery. Provide the requested point(s) of delivery on Western's transmission system (or a third party's transmission system), the voltage of service required, and the capacity desired, if applicable:

b. Transmission arrangements. Describe the transmission arrangements necessary to deliver firm power to the requested points of delivery. Include a brief description of the applicant's transmission and distribution system including major interconnections. Provide a single-line drawing of applicant's system if one is available:

c. Provide a brief explanation of the applicant's ability to receive and use, or receive and distribute, Federal power as of [date]:

6. Other Information. The applicant may provide any other information pertinent to receiving an allocation:

7. Signature: Western requires the signature and title of an appropriate official who is able to attest to the validity of the APD and who is authorized to submit the request for an allocation.

By signing below, I certify the APD which I have provided is true and correct to the best of my knowledge and belief.

Signature Title

Record Keeping Requirements: If Western accepts an application and the applicant receives an allocation of Federal power, the applicant must keep all APD for a period of 3 years after signing a firm electric service contract.

B. Western's Consideration of Applications

1. Upon receipt, Western will review APD and verify that each applicant meets the general eligibility criteria set forth in Section II.

a. Western will request, in writing, additional information from any applicant whose APD is deficient. The applicant shall have 15 calendar days from the date on Western's request letter to provide, in writing, the needed information. If the requested information is not provided within that time, Western retains the right to consider the application withdrawn.

b. If Western determines that an applicant does not meet the general eligibility criteria, Western will send a letter explaining why the applicant did not qualify.

c. If an applicant meets the general eligibility criteria, Western will determine the amount of firm power to be allocated pursuant to the general allocation criteria set forth in Section III. Western will send for the applicant's review a draft contract, which contains the terms and conditions of the offer and the amount of firm power allocated to the applicant.

2. Western reserves the right to determine the amount of firm power to allocate to an applicant, as justified by an applicant's APD.

VI. Review Under the Paperwork Reduction Act

In accordance with the Paperwork Reduction Act of 1980 (PRA), 44 U.S.C. 3501-3520, Western has received approval from the Office of Management and Budget to collect APD under control number 1910-5136.

Notwithstanding any other provision of the law, no person is required to respond to, nor shall any person be subject to a penalty for failure to comply with, a collection of information subject to the requirements of the PRA, unless that collection of information displays a currently valid OMB Control Number.

VII. Review Under the National Environmental Policy Act

Western completed an environmental impact statement on the Program pursuant to the National Environmental Policy Act of 1969 (NEPA).

The Record of Decision was published in the Federal Register, 60 FR 53181, on October 12, 1995. Western will comply with any additional NEPA requirements for this resource pool.

Dated: December 10, 2010.
Timothy J. Meeks,
Administrator.

[FR Doc. 2010-31749 Filed 12-16-10; 8:45 am]

BILLING CODE 6450-01-P